DEPARTMENT OF HOMELAND SECURITY

Coast Guard

33 CFR Part 117

[Docket No. USCG-2018-0940]

Drawbridge Operation Regulation; Steamboat Slough (Snohomish River), Marysville, WA

AGENCY: Coast Guard, DHS.

ACTION: Notice of temporary deviation from regulations.

SUMMARY: The Coast Guard has issued a temporary deviation from the operating schedule that governs the Burlington Northern Santa Fe Railway Company (BNSF) Railroad Bridge (BNSF Bridge 37.0) across Steamboat Slough (Snohomish River), mile 1.0 near Marysville, WA. The deviation is necessary to accommodate scheduled replacement of bridge ties across the swing span replacement. The deviation allows the bridge to remain in the closed-to-navigation position during the maintenance to allow safe movement of work crews.

DATES: This deviation is effective from 11 a.m. on November 26, 2018 to 3 p.m. on December 14, 2018.

ADDRESSES: The docket for this deviation, USCG-2018-0940 is available at http://www.regulations.gov. Type the docket number in the “SEARCH” box and click “SEARCH.” Click on Open Docket Folder on the line associated with this deviation.

FOR FURTHER INFORMATION CONTACT: If you have questions on this temporary deviation, call or email Steven M. Fischer, the Bridge Administrator, Coast Guard Thirteenth District; telephone 206-220-7282 email d13-pf-d13bridges@uscg.mil.

SUPPLEMENTARY INFORMATION: BNSF has requested a temporary deviation from the operating schedule for the BNSF Bridge 37.0, mile 1.0, crossing Steamboat Slough (Snohomish River), near Marysville, WA. BNSF requested for BNSF Bridge 37.0 be allowed to remain in the closed-to-navigation position for swing span maintenance. This maintenance will improve the reliability of the bridge for marine openings. The normal operating schedule for the subject bridge is in 33 CFR 117.1059. BNSF Bridge 37.0 is a swing bridge and provides 8 feet of vertical clearance above mean high water elevation while in the closed-to-navigation position.

This deviation allows the BNSF Bridge 37.0 to remain in the closed-to-navigation position, and need not open for maritime traffic from 11 a.m. on November 26, 2018 to 3 p.m. on December 14, 2018 per the table below:

From time/date | To time/date | Span position
11 a.m./Nov 26, 2018 | 3 p.m./Nov 30, 2018 | Closed.
11 a.m./Dec 3, 2018 | 3 p.m./Dec 7, 2018 | Closed.
11 a.m./Dec 10, 2018 | 3 p.m./Dec 14, 2018 | Closed.

The bridge shall operate in accordance to 33 CFR 117.1059 at all other times. Vessels able to pass through the subject bridge in the closed-to-navigation position may do so at any time. The bridge will be required to open, if needed, for vessels engaged in emergency response operations during this closure period.

Waterway usage on this part of the Snohomish River and Steamboat Slough includes tug and barge to small pleasure craft. The BNSF Bridge 37.0 receives an average number of three opening request during this time of year. BNSF has coordinated with Steamboat Slough users that frequently request bridge openings during this time of year. No immediate alternate route for vessels to pass is available on this part of the river. The Coast Guard will also inform the users of the waterways through our Local and Broadcast Notices to Mariners of the change in operating schedule for the bridge so that vessels can arrange their transits to minimize any impact caused by the temporary deviation.

In accordance with 33 CFR 117.35(e), the drawbridges must return to their regular operating schedule immediately at the end of the effective period of this temporary deviation. This deviation from the operating regulations is authorized under 33 CFR 117.35.

Dated: October 16, 2018.
Steven M. Fischer,
Bridge Administrator, Thirteenth Coast Guard District.

[FR Doc. 2018-23028 Filed 10-22-18; 8:45 am]

BILLING CODE 9110-04-P